NATIONAL AERONAUTICS AND SPACE ADMINISTRATION

14 CFR Part 1260

RIN 2700-AC51

NASA Grant and Cooperative Agreement Handbook—Limitations on Incremental Funding and Deobligations on Grants, and Elimination of Delegation of Closeout of Grants and Cooperative Agreements to Office of Naval Research

AGENCY: National Aeronautics and Space Administration.

ACTION: Final rule.

SUMMARY: This final rule amends the NASA Grant and Cooperative Agreement Handbook to revise the threshold for incrementally funding grants and to establish dollar thresholds for incremental funding and funding deobligation actions under grants. These changes will further limit the number of grants eligible to be incrementally funded and the number of incremental funding and funding deobligation actions. Additionally, this final rule eliminates the possibility of delegating closeout of grants and cooperative agreements to the Office of Naval Research (ONR). That function will be retained by NASA.

EFFECTIVE DATE: May 7, 2002.

FOR FURTHER INFORMATION CONTACT: Rita Svarcas, NASA Headquarters, Code HC, Washington, DC, (202) 358-0464,

e-mail: rsvarcas@hq.nasa.gov.

SUPPLEMENTARY INFORMATION:

A. Background

Currently, the Grant and Cooperative Agreement Handbook limits the incremental funding of grants. In spite of these restrictions, numerous incremental funding actions are being issued against grants. The high number of actions creates a workload burden for finance and procurement personnel in the Agency. This final rule further restricts the number of grants that can be incrementally funded by revising the dollar threshold that a grant must meet in order for it to be incrementally funded. An anticipated annual funding threshold of at least $100,000 is now specified in order for a grant to be incrementally funded. It also establishes a minimum dollar threshold of $25,000 that certain incremental funding and funding deobligation actions must meet.

Currently, section 1260.70 of the Grant and Cooperative Agreement Handbook states that NASA Centers will delegate both property administration and closeout of grants and cooperative agreements to ONR. Section 1260.77 discusses ONR tasks within the NASA closeout procedures, including certification that all required reports have been received and approved by the NASA technical officer. Both NASA and ONR were obtaining certifications. As a result, Grant Information Circular (GIC) 01-02 was issued on August 2, 2001. GIC 01-02 changed NASA's closeout policy by eliminating that specific closeout function from ONR's responsibilities. With the issuance of GIC 01-02, NASA Centers have started the process of bringing in-house the closeout function for grants and cooperative agreements. Eliminating the possibility of Centers delegating the closeout function to ONR assures that the duplication of effort (NASA and ONR) will end.

B. Regulatory Flexibility Act

NASA certifies that this final rule will not have a significant economic impact on a substantial number of small entities within the meaning of the Regulatory Flexibility Act, 5 U.S.C. 601 et seq. because the changes primarily affect internal procedures which will merely result in fewer, but larger dollar value, funding actions on grants.

C. Paperwork Reduction Act

The Paperwork Reduction Act does not apply because this rule does not impose any new recordkeeping or information collection requirements, or collection of information from offerors, contractors, or members of the public that require the approval of the Office of Management and Budget under 44 U.S.C. 3501, et. seq.

List of Subjects in 14 CFR Part 1260

Grant programs—science and technology.

Tom Luedtke,
Assistant Administrator for Procurement.

Accordingly, 14 CFR part 1260 is amended as follows:

1. The authority citation for 14 CFR 1260 continues to read as follows:

Authority: 42 U.S.C. 2473(c)(1), Pub. L. 97-258, 96 Stat. 1003 (31 U.S.C. 6301 et seq.), and OMB Circular A-110.

PART 1260—GRANTS AND COOPERATIVE AGREEMENT

2. In § 1260.11, revise paragraph (h) introductory text and add paragraphs (h)(3) and (h)(4) to read as follows:

§ 1260.11 Evaluation and selection.

* * * * *

(h) NASA reserves the right to either fully fund or incrementally fund grants based on fiscal law and program considerations. Grants with anticipated annual funding exceeding $100,000 may be funded for less than the amount stated in the proposal. On an exception basis, and with the concurrence of the installation comptroller, the procurement officer may allow individual grants with anticipated annual funding between $50,000 and $100,000 to be funded for less than the amount stated in the proposal. The procurement officer shall maintain a record of all such approvals during the fiscal year.

* * * * *

(3) Unless the action is necessary to fully fund a grant, incremental funding actions totaling less than $25,000 shall not be issued.

(4) Unless the action is necessary to close out a grant or to make a corrective accounting adjustment, funding actions to deobligate funds totaling less than $25,000 shall not be issued.

* * * * *

3. In § 1260.70, amend paragraph (a) introductory text, paragraphs (a)(3) and (a)(4), and paragraph (b) to read as follows:

§ 1260.70 Delegation of administration.

(a) In most cases, property administration of NASA grants and cooperative agreements will be delegated to the Office of Naval Research (ONR). Other administration duties may be assigned as listed on NF 1674. Exceptions to this policy are:

* * * * *

(3) Grant officers may waive specific administration requirements (as listed on NF 1674) in exceptional circumstances for individual grants. Exceptions to administration duties that are normally delegated must be justified and approved in writing by the Grant Officer, and made part of the file.

(4) Waiver of delegation of property administration duties that are to be instituted by a center as a standard practice constitutes a deviation to this handbook, and requires approval in accordance with § 1260.7.

(b) Grant and cooperative agreement administration delegations will be made by use of NF 1674 (Exhibit F to subpart A of this part 1260). When administration duties have been assigned to ONR, the NF 1674, the award document, and the approved budget will be sent to ONR in a single package (electronically, when possible).

* * * * *

4. In § 1260.77, revise paragraphs (b), (c), (d) introductory text and (d)(1) through (3) to read as follows:

§ 1260.77 Closeout procedures.

* * * * *

(b) Those who are designated to receive NASA reports (except for CASI, which only acknowledges receipt) must provide certification to the NASA grant officer that the reports have been received and satisfactorily completed. Electronic certifications are acceptable. See §§ 1260.75 and 1260.171(a). The property certification should indicate that disposal of any remaining Government property has been made as directed and that NASA has been compensated for any residual inventory.

(c) When ONR has been delegated grant and cooperative agreement administration duties as listed on the NF 1674, and has completed its actions, the NASA grant officer is to receive from ONR all of the following:

(1) For notification of the completion of property administration duties, a DD Form 1593 Contract Administration Completion Record (or equivalent electronic notification), without supporting or backup documents, indicating property administration is complete.

(2) For other administration duties, an electronic notification confirming that all assigned administration duties have been completed is sufficient. Although a DD Form 1594 is not required, ONR may use this form if they choose.

(d) A grant is administratively complete and ready for closeout by NASA when:

(1) Property disposition has been completed.

(2) The grant officer has obtained from the NASA technical officer certifications that all reports have been received.

(3) When administration duties have been delegated to ONR, an electronic notification confirming the completion of all assigned administration duties has been received. Although not required, a DD Form 1594 may be used by ONR in lieu of the electronic notification.

* * * * *

[FR Doc. 02-11167 Filed 5-6- 8:45am]

BILLING CODE 7510-01-P